ENVIRONMENTAL PROTECTION AGENCY

[EPA-HQ-OPP-2005-0494; FRL-8827-9]

Rotenone; Cancellation Order for Amendments to Terminate Uses

AGENCY: Environmental Protection Agency (EPA).

ACTION: Notice.

SUMMARY: This notice announces EPA's order for amendments to terminate uses, voluntarily requested by the registrants and accepted by the Agency, of products containing rotenone, pursuant to section 6(f)(1) of the Federal Insecticide, Fungicide, and Rodenticide Act (FIFRA), as amended. This cancellation order follows a June 7, 2006 Federal Register Notice of Receipt of Requests from the registrants listed in Table 2 of Unit II. to voluntarily amend to terminate uses of these product registrations. These are not the last products containing this pesticide registered for use in the United States. In the June 7, 2006 notice, EPA indicated that it would issue an order implementing the amendments to terminate uses, unless the Agency received substantive comments within the 30 day comment period that would merit its further review of these requests, or unless the registrants withdrew their requests. The Agency received one comment on the notice but it did not merit further review of the requests. Further, the registrants did not withdraw their requests. Accordingly, EPA hereby issues in this notice a cancellation order granting the requested amendments to terminate uses. Any distribution, sale, or use of the products subject to this cancellation order is permitted only in accordance with the terms of this order, including any existing stocks provisions.

DATES: The amendments are effective July 14, 2010.

FOR FURTHER INFORMATION CONTACT: Katie Weyrauch, Pesticide Re-evaluation Division (7508P), Office of Pesticide Programs, Environmental Protection Agency, 1200 Pennsylvania Ave., NW., Washington, DC 20460-0001; telephone number: (703) 308-0166; fax number: (703) 308-8090; e-mail address: weyrauch.katie@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2005-0494. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the amendments to delete uses, as requested by registrants, of products registered under section 3 of FIFRA. These registrations are listed in sequence by registration number in Table 1 of this unit.

Table 1. - Rotenone Product Registration Amendments to Delete Uses
EPA Registration Number | Product Name | Uses Deleted
655-3 | Prentox Cube Powder | Livestock, agriculture, residential and home owner, domestic pet uses, and all other uses EXCEPT for piscicide uses
655-69 | Prentox Cube Resins | Do.
655-422 | Prentox Prenfish Toxicant | Do.
655-691 | Prentox Rotenone Fish Toxicant Powder | Do.
655-805 | Noxfish Fish Toxicant Liquid-Emulsifiable | Do.
655-806 | Cube Powder Fish Toxicant | Do.
655-807 | Powdered Cube Root | Do.
655-808 | Brittle Extract of Cube Root | Do.
6458-1 | Cube Root Powder | Do.
6458-5 | Rotenone Resin for Manufacturing Use Only | Do.
6458-6 | Cube Powder | Do.
82397-1 | Chem Fish Regular | Do.
82397-2 | Chem Fish Synergized | Do.
82397-3 | Powdered Cube Root | Do.
82397-4 | Chem-Sect Brand Rotenone Resins | Do.
82397-5 | Cube Powder Fish Toxicant | Do.

Table 2 of this unit includes the names and addresses of record for all registrants of the products in Table 1 of this unit, in sequence by EPA company number. This number corresponds to the first part of the EPA registration numbers of the products listed in Table 1.

Table 2. - Registrants of Amended Products
EPA Company Number | Company Name and Address
655 | Prentiss, Inc., 3600 Mansell Road, Suite 350, Alpharetta, GA 30022
6458 | Foreign Domestic Chemicals Corp., 3 Post Road, Oakland, NJ 07436
82397 | Tifa International, LLC, 50 Division Avenue, Millington, NJ 07946

III. Summary of Public Comments Received and Agency Response to Comments

One comment was received during the 30-day public comment period. The commenter expressed her opinion that no living thing should be exposed to rotenone products. The commenter did not, however, provide any information or reason to not grant the request to terminate certain uses. Therefore, the Agency does not believe that the comment submitted during the comment period merits further review or a denial of the requests for voluntary use deletion.

IV. Cancellation Order

Pursuant to FIFRA section 6(f), EPA hereby approves the requested amendments to terminate uses of rotenone registrations identified in Table 1 of Unit II. Accordingly, the Agency hereby orders that the product registrations identified in Table 1 of Unit II. are amended to terminate the affected uses. The effective date of the cancellations that are subject of this notice is July 14, 2010. Any distribution, sale, or use of existing stocks of the products identified in Table 1 of Unit II. in a manner inconsistent with any of the provisions for disposition of existing stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on June 7, 2006 (71 FR 32948) (FRL-8071-1). The comment period closed on July 7, 2006.

VI. Provisions for Disposition of Existing Stocks

Existing stocks are those stocks of registered pesticide products which are currently in the United States and which were packaged, labeled, and released for shipment prior to the effective date of the action. The existing stocks provision for the products subject to this order is as follows.

For all products listed in Table 1 of Unit II, there is no provision for existing stocks of products with labels that include the deleted uses in the hands of technical registrants or any formulation of these products as of July 14, 2010. Thereafter, the registrants are prohibited from selling or distributing products listed in Table 1 of Unit II, except for export in accordance with FIFRA section 17 or for proper disposal.

Persons other than the registrant may not formulate but may sell, distribute, or use existing stocks of products whose labels include the deleted uses for July 14, 2011, provided that such sale, distribution, or use is consistent with the terms of the previously approved labeling that included the deleted uses.

List of Subjects

Environmental protection, Pesticides and pests.

Dated: July 1, 2010.
Richard P. Keigwin, Jr.,
Director, Pesticide Re-evaluation Division, Office of Pesticide Programs.

[FR Doc. 2010-17015 Filed 7-13-10; 8:45 am]

BILLING CODE 6560-50-S